DEPARTMENT OF COMMERCE

Bureau of Industry and Security

Application for NATO International Competitive Bidding

ACTION: Pre-submission notice; request for comments.

SUMMARY: The Department of Commerce, as part of its continuing effort to reduce paperwork and respondent burden, invites the general public and other Federal agencies to take this opportunity to comment on proposed and/or continuing information collections, as required by the Paperwork Reduction Act of 1995, Pub. L. 104-13 (44 U.S.C. 3506(c)(2)(A)).

DATES: Written comments must be submitted on or before February 2, 2004.

ADDRESSES: Direct all written comments to Diana Hynek, Departmental Paperwork Clearance Officer, Department of Commerce, Office of the Chief Information Officer, 202-482-0266, Room 6625, 14th and Constitution Avenue, NW., Washington DC 20230 or via the Internet at dHynek@doc.gov.

FOR FURTHER INFORMATION CONTACT: Requests for additional information or copies of the information collection instrument(s) and instructions should be directed to Marna Dove, BIS ICB Liaison, Department of Commerce, BIS Office of the Chief Information Officer, Room 6622, 14th and Constitution Avenue, NW., Washington DC 20230.

SUPPLEMENTARY INFORMATION

I. Abstract

Opportunities to bid for contracts under the NATO Security Investment Program (NSIP) are only open to firms of member NATO countries. NSIP procedures for international competitive bidding (AC/4-D/2261) require that each NATO country certify that their respective firms are eligible to bid such contracts. This is done through the issuance of a “Declaration of Eligibility.” The U.S. Department of Commerce, Bureau of Industry of Security is the executive agency responsible for certifying U.S. firms. ITA-4023P and BIS-4023P are the application forms used to collect information needed to ascertain the eligibility of a U.S. firm. BIS will review applications for completeness and accuracy and determine a company's eligibility based on its financial viability, technical capability, and security clearances with the Department of Defense.

II. Method of Collection

The U.S. Department of Commerce distributes Form ITA-4023P (and revised form BIS-4023P) to potential applicants upon request. The applicant completes the form and forwards it to the U.S. Department of Commerce/ Bureau of Industry and Security for processing.

III. Data

OMB Number: None.

Form Number: ITA-4023P, BIS-4023P.

Type of Review: Regular Submission.

Affected Public: Businesses and other for-profit institutions, small businesses or organizations.

Estimated Number of Respondents: 40.

Estimated Time Per Response: 1 hour.

Estimated Total Annual Burden Hours: 40 hours.

Estimated Total Cost: $1,000.

Estimated Total Annual Cost: No start-up costs or capital expenditures.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they will also become a matter of public record.

Dated: November 26, 2003.
Gwellnar Banks,
Management Analyst, Office of the Chief Information Officer.

[FR Doc. 03-30049 Filed 12-2-03; 8:45 am]

BILLING CODE 3510-33-P